DEPARTMENT OF TRANSPORTATION

Federal Motor Carrier Safety Administration

State Responsibility for the Timely Reporting and Posting of Certain Convictions and Disqualifications Involving Commercial Driver's License Holders

AGENCY: Federal Motor Carrier Safety Administration, DOT.

ACTION: Notice.

SUMMARY: The Federal Motor Carrier Safety Administration announces guidance to State driver licensing agencies (SDLAs) to support their efforts at achieving compliance with the Federal Commercial Driver's license (CDL) rules concerning timely reporting and posting of convictions for traffic offenses. This action is in response to the Department of Transportation Office of the Inspector General's (OIG) 2009 report Audit of the Data Integrity of the Commercial Driver's License Information System (CDLIS).

FOR FURTHER INFORMATION CONTACT: Selden Fritschner, Chief, Commercial Driver's License Division, Federal Motor Carrier Safety Administration, 1200 New Jersey Ave. SE, Washington, DC 20590. E-mail: selden.fritschner@dot.gov, Telephone: 202-366-0677.

SUPPLEMENTARY INFORMATION:

I. Background

Section 202 of the Motor Carrier Safety Improvement Act of 1999 (PL 106-159) requires that whenever an individual is convicted of certain traffic offenses in a State, and the individual has a commercial driver's license (CDL) issued by another State, the State of Conviction (SOC) must notify the driver's State of Record (SOR) in a timely manner. This includes all convictions (as defined in 49 CFR 383.5), in any type of motor vehicle, involving a State or local law relating to motor vehicle traffic control (other than a parking violation). This also includes some convictions listed in 49 CFR 383.51 that are not directly related to motor vehicle traffic control but that are deemed critical to ensuring highway safety.

On July 31, 2002, FMCSA published a final rule (67 FR 49761) requiring SOCs to begin notifying a driver's SOR within 30 days for all convictions occurring after September 30, 2005. Beginning September 30, 2008, the SOCs were required to report convictions to the SORs within 10 days (49 CFR 384.209).

In July 2009, the Department of Transportation's Office of Inspector General released the report Audit of the Data Integrity of the Commercial Driver's License Information System) as required by the Safe, Accountable, Flexible, Efficient Transportation Equity Act: A Legacy for Users (SAFETEA-LU) (Pub. L. 109-59). In preparing this report, OIG evaluated several factors related to CDLIS, including the timeliness of convictions received from courts and posted by State driver licensing agencies. In its CDLIS report, OIG estimated that 500,000 active CDL holders have convictions on their driver history record (DHR) from States other than their SOR. The OIG further estimated that up to 20 percent of those CDL holders have convictions on their DHR that were not reported to their SOR and posted in a timely manner.

This reporting delay reduces highway safety by enabling CDL holders convicted of disqualifying offenses to continue driving without being detected by roadside inspection officials. These delays also make it difficult for motor carriers to identify and remove from service drivers who have been convicted of disqualifying offenses. In some instances, this includes drivers who have been convicted of multiple major traffic offenses and who should be disqualified from holding a CDL for life. As part of its mission to reduce the number of fatalities, injuries, and crashes involving large trucks and buses, and as part of its responsibility to ensure State compliance with the minimum CDL program standards established by Federal regulations, FMCSA provides this notice and guidance to all SDLAs on the conviction reporting requirements.

II. Requirements

Whenever a CDL holder, or a person operating a CMV who is required to have a CDL, is convicted of a traffic offense in a State other than the State in which he or she is licensed, the SOC must notify the SOR within 10 days of the conviction (See 49 CFR 384.209).

Whenever a CDL holder is disqualified or has his driving privileges withdrawn or suspended from operating a CMV for longer than 60 days in a State other than the State in which he or she is licensed, the State of Withdrawal must notify the SOR within 10 days of the disqualification action. This notification must include information related to the disqualification and the violation that resulted in the disqualification, or suspension (See 49 CFR 384.208).

Whenever a SDLA receives notification of a conviction or disqualification from another State, it must post the information to the DHR within 10 days of receipt (See 49 CFR 384.225(c) (1)). Further, whenever a SDLA receives notification of a conviction occurring within the same State, it must post the information to the DHR within 10 days of the conviction (See 49 CFR 384.225(c) (2)).

Guidance

FMCSA provides the following guidance to States on how to come into compliance with the provisions of the Federal regulations related to the timely reporting and posting of convictions and disqualifications.

I. Incoming Conviction Reports on Paper

SDLAs that receive conviction data from courts on paper (either direct mailing of the traffic citation with the disposition indicated or conviction summary reports generated by the courts) have several options to expedite processing:

• Sort incoming conviction data and prioritize handling for any conviction that indicates the violation involved a CDL holder, a CMV that requires the driver to hold a CDL, hazardous material, or a passenger CMV (collectively hereafter referred to as CDL/CMV convictions);

• Designate certain data entry personnel within the SDLA to process CDL/CMV convictions exclusively, or as their highest priority when such data is received;

• Request that courts pre-sort CDL/CMV conviction data and provide special markings when reporting it to the SDLA (see section III for further information);

• Request that courts send conviction data related to CDL/CMV convictions as soon as practicable after disposition (the same day if possible);

• Prioritize the correction of any internal or external data entry errors that involve CDL/CMV convictions;

• Explore options for expedited delivery of CDL/CMV conviction data to the SDLA; and

• Explore options for an electronic conviction transmission system (see section II for further information).

II. Incoming Conviction Reports via Electronic Transmission

SDLAs that receive CDL/CMV conviction data from courts by an electronic conviction transmission system are at an advantage. The data entry is already completed and can be posted to the driver's record with minimal effort, and the actual transmission of the information is either instantaneous or submitted daily through a batch process. SDLAs can expedite processing electronic transmission further if they:

• Request that courts process dispositions for CDL/CMV offenses into their case management systems the same day as the final determination;

• Request that courts alter their case management systems to transmit CDL/CMV conviction data to the SDLA on a daily basis (rather than weekly or monthly);

• Prioritize the correction of any transmission or processing errors involving CDL/CMV convictions;

• Work to ensure that all courts use electronic transmission of CDL/CMV convictions if it is an available alternative; and

• Continuously improve the electronic conviction transmission system to take advantage of emerging technological advances.

III. Judicial Outreach

SDLAs should strengthen their partnerships with the courts in their jurisdiction to bring about greater success in achieving compliance with the reporting requirements. SDLAs can take several steps to help strengthen these partnerships and their judicial outreach efforts if they:

• Determine which court personnel are most responsible for ensuring that information related to CDL/CMV offenses are transmitted to the SDLA in a timely manner; this may be the Judge, the Clerk of Court's Office, or the Prosecutor;

• Designate an individual or organizational unit within the SDLA as having responsibility to engage in judicial outreach activities;

• Ensure that all involved personnel understand the importance of timely conviction reporting. FMCSA evaluates compliance of the SDLA and all involved entities that impact the State's CDL program and contribute to compliance with the requirements of 49 CFR part 384;

• Engage in proactive steps to discuss process improvement, including site visits, routine e-mails or newsletters, and presentations at State or regional conferences;

• Request assistance in outreach efforts from other State level agencies and organizations if appropriate (e.g., Administrative Office of the Courts, the Governor's Highway Safety Office, Associations/Counsels for judges, clerks, and prosecutors); and

• Request from FMCSA information and guidance on judicial training.

IV. Utilize CDLIS

CDLIS has the capability to transmit conviction and disqualification information to other States. All States now have the ability to receive these convictions and disqualifications electronically. States should utilize this functionality whenever possible to expedite the transmission and final posting of CDL/CMV convictions and disqualifications.

V. Statutory Reporting Periods

If State statutes address the timely reporting and posting of convictions, they must not conflict with the applicable Federal regulations (this includes court reporting convictions to the SDLA, the SDLA reporting out-of-State convictions to the SOR, or the SDLA posting in-State convictions to the DHR).

Some States have statutory or due process requirements that prevent courts from sending a conviction to the SDLA immediately upon disposition. This requirement generally allows for appeals or other procedural actions prior to the State posting the conviction to the DHR or sending it to the SOR. States reported to FMCSA that these mandatory holding periods negatively impact their ability to comply with the timeliness requirements. In these instances, FMCSA stands ready to discuss the requirements unique to each State and discuss alternatives that may reduce or eliminate the negative impact to the State's compliance.

VI. Funding

SDLAs have secured various funding sources for electronic conviction reporting systems, including fees assessed against those convicted of traffic offenses, direct appropriation in the State's budget, or through other available revenue. The FMCSA encourages SDLAs to engage in direct communication with other SDLAs to solicit ideas and implementation strategies.

States also have the option of requesting grants from various Federal agencies, including FMCSA's CDL Program Improvement grant (CDLPI). While CDLPI grants cannot fund an entire statewide electronic conviction system, and cannot be used to support any effort indefinitely, States can request financial assistance to establish demonstration projects and other proof-of-concept efforts that can help SDLAs secure additional funding through other means.

Compliance

FMCSA takes seriously its responsibility to ensure State compliance with all provisions of 49 CFR part 384, especially those involving the timely reporting and posting of convictions and disqualifications. FMCSA will work with the States to the greatest extent practicable to address the findings in the OIG report and to ensure compliance by using available electronic reporting and manual auditing methods. FMCSA will examine these reports and conduct audits independently of any established evaluation cycle or review process. FMCSA will begin posting maps and matrices providing details regarding State compliance with timeliness requirements on the FMCSA Web site in the third quarter of fiscal year 2010. FMCSA will post this information quarterly. States should review this status information to determine the scope of the efforts needed to come into compliance.

Issued on: June 23, 2010.
Anne S. Ferro,
Administrator.

[FR Doc. 2010-16218 Filed 7-1-10; 8:45 am]

BILLING CODE 4910-EX-P